DEPARTMENT OF STATE

[Public Notice 4776]

Shipping Coordinating Committee; Notice of Meeting

The Shipping Coordinating Committee (SHC) will conduct an open meeting at 9:30 a.m. on Tuesday, September 28, 2004, in Room 2415 of the United States Coast Guard Headquarters Building, 2100 2nd Street SW., Washington, DC, 20593-0001. The primary purpose of the meeting is to prepare for the 52nd Session of the International Maritime Organization (IMO) Marine Environment Protection Committee (MEPC) to be held at IMO Headquarters in London, England from October 11 to 15, 2004.

The primary matters to be considered include:

—Harmful aquatic organisms in ballast water;

—Recycling of ships;

—Prevention of air pollution from ships;

—Consideration and adoption of amendments to mandatory instruments;

—Interpretations and amendments of MARPOL 73/78 and related instruments;

—Implementation of the OPRC Convention and the OPRC-HNS Protocol and relevant conference resolutions;

—Identification and protection of Special Areas and Particularly Sensitive Sea Areas;

—Inadequacy of reception facilities;

—Voluntary IMO Member State Audit Scheme;

—Follow-up to the revised MARPOL Annex I and Annex II;

—Harmful anti-fouling systems for ships;

—Promotion of implementation and enforcement of MARPOL 73/78 and related instruments;

—Follow-up to UNCED and WSSD;

—Technical Cooperation Program;

—Future role of formal safety assessment and human element issues; and

—Work program of the Committee and subsidiary bodies.

Please note that hard copies of documents associated with MEPC 52 will not be available at this meeting. Documents will be available in Adobe Acrobat format on CD-ROM. To request documents please write to the address provided below, or request documents via the following Internet link: http://www.uscg.mil/hq/gm/mso/mso4/mepc.html.

Members of the public may attend this meeting up to the seating capacity of the room. Interested persons may seek information by writing to Ensign Christina Paruzynski, Commandant (G-MSO-4), U.S. Coast Guard Headquarters, 2100 Second Street SW., Room 1601, Washington, DC 20593-0001 or by calling (202) 267-2079.

Dated: July 21, 2004.
Clay Diamond,
Executive Secretary, Shipping Coordinating Committee, Department of State.

[FR Doc. 04-17313 Filed 7-28-04; 8:45 am]

BILLING CODE 4710-09-P